POSTAL SERVICE

39 CFR Part 912

Procedures To Adjudicate Claims for Personal Injury or Property Damage Arising Out of the Operation of the U.S. Postal Service

AGENCY: Postal Service.

ACTION: Final rule.

SUMMARY: This rule amends the Postal Service's regulations concerning tort claims to update the mailing address of the National Tort Center.

DATES: Effective Date: August 23, 2011.

ADDRESSES: Written communications should be directed to: General Law Service Center, USPS National Tort Center, 1720 Market Street, Room 2400, St. Louis, MO 63155-9948.

FOR FURTHER INFORMATION CONTACT: Ruth A. Przybeck, Chief Counsel, Torts, (314) 345-5820.

SUPPLEMENTARY INFORMATION: Amendment of 39 CFR part 912 is necessary to update the mailing address of the National Tort Center. This rule is a change in agency rules of procedure that does not substantially affect any rights or obligations of private parties. Therefore, it is appropriate for its adoption by the Postal Service to become effective immediately.

List of Subjects in 39 CFR Part 912

Administrative practice and procedure; Claims.

For the reasons set forth above, the Postal Service amends 39 CFR Part 912 as follows:

PART 912—[AMENDED]

1. The authority citation for 39 CFR part 912 continues to read as follows:

Authority: 28 U.S.C. 2671-2680; 28 CFR 14.1 through 14.11; 39 U.S.C. 409.

2. In § 912.4, remove the address “Chief Counsel, National Tort Center, U.S. Postal Service, P.O. Box 66640, St. Louis, MO 63141-0640” and add “Chief Counsel, Torts, General Law Service Center, USPS National Tort Center, 1720 Market Street, Room 2400, St. Louis, MO 63155-9948” in its place.

3. Amend § 912.9 as follows:

a. In paragraph (b), remove the address “Chief Counsel, National Tort Center, U.S. Postal Service, P.O. Box 66640, St. Louis, MO 63141-0640” and add “Chief Counsel, Torts, General Law Service Center, USPS National Tort Center, 1720 Market Street, Room 2400, St. Louis, MO 63155-9948” in its place.

b. In paragraph (c), remove the address “Chief Counsel, National Tort Center, U.S. Postal Service, P.O. Box 66640, St. Louis, MO 63141-0640” and add “Chief Counsel, Torts, General Law Service Center, USPS National Tort Center, 1720 Market Street, Room 2400, St. Louis, MO 63155-9948” in its place.

Stanley F. Mires,
Chief Counsel, Legislative.

[FR Doc. 2011-21444 Filed 8-22-11; 8:45 am]

BILLING CODE 7710-12-P